DEPARTMENT OF COMMERCE

National Oceanic and Atmospheric Administration

RIN 0648-XC577

Pacific Halibut Fishery; Guideline Harvest Levels for the Guided Sport Fishery for Pacific Halibut in International Pacific Halibut Commission Regulatory Areas 2C and 3A

AGENCY: National Marine Fisheries Service (NMFS), National Oceanic and Atmospheric Administration (NOAA), Commerce.

ACTION: Notice of guideline harvest level.

SUMMARY: NMFS provides notice of the 2013 Pacific halibut guideline harvest levels (GHLs) for the guided sport fishery in International Pacific Halibut Commission (IPHC) Regulatory Areas 2C (Southeast Alaska) and 3A (Central Gulf of Alaska). This notice is necessary to meet the regulatory requirement to publish notice announcing the GHLs and to inform the public about the 2013 GHLs for the guided sport fishery for halibut. The GHLs are benchmark harvest levels for participants in the guided sport fishery. The Area 2C GHL is 788,000 lb (357.4 mt); and the Area 3A GHL is 2,734,000 lb (1,240.1 mt). These GHLs revise and supersede those published in the 2013 IPHC annual management measures (78 FR 16423, March 15, 2013).

DATES: The GHLs are effective February 1, 2013, through December 31, 2013. This period is specified by IPHC as the sport fishing season in all waters in and off Alaska.

FOR FURTHER INFORMATION CONTACT: Julie Scheurer, (907) 586-7228.

SUPPLEMENTARY INFORMATION:

Background

In 2003, NMFS implemented a final rule (68 FR 47256, August 8, 2003) to establish GHLs for Pacific halibut (Hippoglossus stenolepis) harvested by the guided sport fishery in IPHC Areas 2C and 3A. Regulations implementing the GHLs have been amended twice. In 2008, the GHL table was corrected at 50 CFR 300.65(c)(1) (73 FR 30504, May 28, 2008). In 2009, regulatory provisions were amended for NMFS' annual publication of the GHL notice and to clarify NMFS' authority to take action at any time to limit the guided sport angler catch to the GHL (74 FR 21194, May 6, 2009). Regulations at § 300.65(c)(1) require that NMFS annually publish a notice in the Federal Register to announce the GHLs for Area 2C and Area 3A.

Consistent with § 300.65(c), this notice announces the 2013 GHLs for the guided sport fishery for Pacific halibut in IPHC Areas 2C and 3A. Regulations at § 300.65(c)(1) specify the GHLs based on the total constant exploitation yield (CEY) that is established annually by the IPHC. The total CEYs and resulting GHLs were incorrect as published in the final rule announcing the 2013 IPHC annual management measures for the Pacific halibut fisheries (78 FR 16423, March 15, 2013). This notice announces revised total CEYs and corresponding GHLs for 2013. For Area 2C, the total CEY is 5,020,000 lb (2,277.0 mt) and the corresponding GHL is 788,000 lb (357.4 mt). For Area 3A, the total CEY is 17,070,000 lb (7,742.8 mt) and the corresponding GHL is 2,734,000 lb (1,240.1 mt). The GHLs in Areas 2C and 3A each dropped one step from 2012 levels. NMFS may take action at any time to limit the guided sport halibut harvest to as close to the GHL as practicable (50 CFR 300.65(c)(3)).

Authority: 16 U.S.C. 773 et seq.

Dated: March 21, 2013.
Kara Meckley,
Acting Deputy Director, Office of Sustainable Fisheries, National Marine Fisheries Service.

[FR Doc. 2013-06898 Filed 3-25-13; 8:45 am]

BILLING CODE 3510-22-P